DEPARTMENT OF HOMELAND SECURITY

Coast Guard

33 CFR Parts 175 and 181

46 CFR Parts 160 and 169

[Docket No. USCG-2013-0263]

RIN 1625-AC02

Personal Flotation Devices Labeling and Standards

AGENCY: Coast Guard, DHS.

ACTION: Final rule; correction.

SUMMARY: The Coast Guard published a final rule in the Federal Register on September 22, 2014, which removes references to type codes in its regulations on the carriage and labeling of Coast Guard-approved personal flotation devices. Two extra characters were included in the phone number for the Coast Guard person to contact for more information about that rule. This document corrects that phone number.

DATES: This correction is effective September 30, 2014.

FOR FURTHER INFORMATION CONTACT: For information about this document call or email Ms. Brandi Baldwin, Lifesaving and Fire Safety Division, Coast Guard; telephone 202-372-1394, email brandi.a.baldwin@uscg.mil.

SUPPLEMENTARY INFORMATION: The Coast Guard published a final rule in the Federal Register on September 22, 2014 (79 FR 56491), which when it becomes effective on October 22, 2014, will remove references to type codes in regulations on the carriage and labeling of Coast Guard-approved personal flotation devices. In the FOR FURTHER INFORMATION CONTACT section of the document, two characters, “-2” were erroneously inserted between the area code and last seven digits of the phone number. This document corrects the phone number to read “202-372-1394.”

Correction

In rule FR Doc. 2014-22373, published on September 22, 2014, (79 FR 56491), make the following correction:

On page 56491, in the second column, fourth line from the bottom, remove“-2”.

Dated: September 24, 2014.
Katia Cervoni,
Chief, Office of Regulations and Administrative Law, U.S. Coast Guard.

[FR Doc. 2014-23187 Filed 9-29-14; 8:45 am]

BILLING CODE 9110-04-P